DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed highway project, I-10 Blythe Pavement Rehabilitation Project in the County of Riverside, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 6, 2021. If the Federal law that authorizes judicial review of a claim provides a time period of less than 150 days for filing such claim, then that shorter time period still applies.

FOR FURTHER INFORMATION CONTACT: For Caltrans: Antonia Toledo, Senior Environmental Planner, California Department of Transportation-District 8, 464 W 4th Street, MS-820, San Bernardino, CA 92401. Office Hours: 8:00 a.m.—5:00 p.m., Pacific Standard Time, telephone, (909) 501-5741 or email Antonia.Toledo@dot.ca.gov. For FHWA, contact David Tedrick at (916) 498-5024 or email david.tedrick@dot.gov.

SUPPLEMENTARY INFORMATION: Effective July 1, 2007, the FHWA assigned, and Caltrans assumed, environmental responsibilities for this project pursuant to 23 U.S.C. 327. Notice is hereby given that Caltrans has taken final agency actions subject to 23 U.S.C. 139(l)(1) by issuing licenses, permits, and approvals for the following highway project in the State of California: rehabilitation of the existing asphalt concrete (AC) pavement on Interstate 10 from Post Mile (PM) R134.0 to PM R156.5 in the County of Riverside. Rehabilitation Activities include removal and replacement of existing inside and outside shoulders, guardrails, rumble strips, drainage inlets, and dikes, and installation of oversized drains. The project will also involve upgrades to ramp facilities for ADA compliance, installation of two temporary detour lanes in the existing median, extension of existing rock slope protection at bridge locations, and hydroseeding the median for erosion control and vegetation restoration. The primary purpose of this project is to restore and extend the life of existing pavement for a minimum of forty years, enhance trip reliability, and consequently minimize expenditures associated with future maintenance. The actions by the Federal agencies, and the laws under which such actions were taken, are described in the Final Environmental Assessment (FEA)/Finding of No Significant Impact (FONSI) for the project, approved on July 27, 2020, and in other documents in Caltrans' project records. The FEA, FONSI and other project records are available by contacting Caltrans at the addresses provided above.

This notice applies to all Federal agency decisions as of the issuance date of this notice and all laws under which such actions were taken, including but not limited to:

1. Council on Environmental Quality (CEQ) regulations

2. National Environmental Policy Act of 1969, as amended, 42 U.S.C 4331(b)(2)

3. Federal Highway Act of 1970, U.S.C 772

4. Federal Clean Air Act of 1977 and 1987

5. Clean Water Act of 1977 and 1987

6. Federal Water Pollution Control Act of 1972

7. Safe Drinking Water Act of 1944, as amended

8. Executive Order 11988, Floodplain Management

9. Historic Sites Act of 1935

10. Endangered Species Act of 1973

11. Executive Order 11990, Protection of Wetlands

12. Executive Order 13112, Invasive Species

13. Fish and Wildlife Coordination Act of 1934, as amended

14. Migratory Bird Treaty Act of 1918, as amended

15. Title VI of the Civil Rights Act of 1964, as amended

16. Executive Order 12898, Federal Actions to Address Environmental Justice in Minority Populations and Low-Income Populations

17. National Historic Preservation Act of 1966, as amended

18. Federal Uniform Relocation Assistance and Real Property Acquisition Policies Act of 1970, as amended (Uniform Act)

19. Farmland Protection Policy Act of 1994

20. Americans with Disabilities Act (ADA), 1990

21. Rehabilitation Act, Section 504

22. Comprehensive Environmental Response, Compensation and Liability Act of 1980

23. Resource Conservation and Recovery Act of 1976

24. Occupational Safety and Health Act of 1970

25. Toxic Substances Control Act of 1976

26. Executive Order 12088, Federal Compliance with Pollution Control Standards

(Catalog of Federal Domestic Assistance Program Number 20.205, Highway Planning and Construction. The regulations implementing Executive Order 12372 regarding intergovernmental consultation on Federal programs and activities apply to this program.)

Authority: 23 U.S.C. 139(l)(1).

Issued on: February 2, 2021.
Rodney Whitfield,
Director, Financial Services, Federal Highway Administration, California Division.

[FR Doc. 2021-02448 Filed 2-4-21; 8:45 am]

BILLING CODE 4910-RY-P